DEPARTMENT OF THE INTERIOR

National Park Service

[NPS-WASO-NAGPRA-NPS0041247; PPWOCRADN0-PCU00RP14.R50000]

Notice of Inventory Completion: Bixby Memorial Free Library, Vergennes, VT

AGENCY: National Park Service, Interior.

ACTION: Notice.

SUMMARY: In accordance with the Native American Graves Protection and Repatriation Act (NAGPRA), the Bixby Memorial Free Library has completed an inventory of human remains and has determined that there is a cultural affiliation between the human remains and Indian Tribes or Native Hawaiian organizations in this notice.

DATES: Repatriation of the human remains in this notice may occur on or after December 17, 2025.

ADDRESSES: Send written requests for repatriation of the human remains in this notice to Miranda Degreenia, Bixby Memorial Free Library, 258 Main Street, Vergennes, VT 05491, email miranda.degreenia@bixbylibrary.org.

SUPPLEMENTARY INFORMATION: This notice is published as part of the National Park Service's administrative responsibilities under NAGPRA. The determinations in this notice are the sole responsibility of the Bixby Memorial Free Library, and additional information on the determinations in this notice, including the results of consultation, can be found in its inventory or related records. The National Park Service is not responsible for the determinations in this notice.

Abstract of Information Available

Human remains representing, at least, two individuals have been identified. No associated funerary objects are present. Sometime before 1968, two human remains were removed from Bristol, VT. The Bixby Memorial Free Library does not have documentation of how these items were removed from Bristol, VT or any subsequent transfers, but these items came into our possession when they were given to the library by Ernst Bilhuber, a Euro-American collector of Native American objects throughout the country and resident of the Vergennes area, in 1968. Bristol, VT is within the Stockbridge-Munsee Community's cultural area of interest and documented historical area and is the only Federally-recognized Tribal Nation with NAGPRA standing. The Bixby Memorial Free Library does not have any documentation to indicate any potentially hazardous substances were used to treat any of the human remains.

Cultural Affiliation

Based on the information available and the results of consultation, cultural affiliation is reasonably identified by the geographical location or acquisition history of the human remains described in this notice.

Determinations

The Bixby Memorial Free Library has determined that:

• The human remains described in this notice represent the physical remains of two individuals of Native American ancestry.

• There is a connection between the human remains described in this notice and the Stockbridge Munsee Community, Wisconsin.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after December 17, 2025. If competing requests for repatriation are received, the Bixby Memorial Free Library must determine the most appropriate requestor prior to repatriation. Requests for joint repatriation of the human remains are considered a single request and not competing requests. The Bixby Memorial Free Library is responsible for sending a copy of this notice to the Indian Tribes and Native Hawaiian organizations identified in this notice and any other consulting parties.

Authority: Native American Graves Protection and Repatriation Act, 25 U.S.C. 3003, and the implementing regulations, 43 CFR 10.10.

Dated: September 25, 2025.
Melanie O'Brien,
Manager, National NAGPRA Program.

[FR Doc. 2025-19960 Filed 11-14-25; 8:45 am]

BILLING CODE 4312-52-P